FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans # | Acquiring | Acquired | Entities
Transactions Granted Early Termination—07/23/2001
20011905 | Hanover Compressor Company | Schlumberger Limited | Production Operators Corporation
20011906 | Schlumberger Limited | Hanover Compressor Company | Hanover Compressor Company
20012136 | J.W. Childs Equity Partners II, L.P | InSight Health Services Corp | InSight Health Services Corp.
20012141 | Roland Duchatelet | LSI Logic Corporation | X-Fab LLC
20012152 | J.W. Childs Equity Partners II, L.P | InSight Health Services Holdings Corp | InSight Health Services Holdings Corp.
20012155 | General Electric Company | SAFECO Corporation | SAFECO Credit Company, Inc.
Transactions Granted Early Termination—07/25/2001
20012116 | H.J. Heinz Company | Fenway Partners Capital Fund, L.P. | Delimex Holdings, Inc.
20012121 | CRH plc | W.R. Bonsal Company | W.R. Bonsal Company
20012138 | Tyco International Ltd | Edison International | Edison Select
Transactions Granted Early Termination—07/26/2001
20012071 | DENTSPLY International Inc | E.ON AG | Degussa Dental GmbH & Co. KG Degussa-Ney Dental, Inc
20012145 | Nestle' S.A | Dreyer's Grand Ice Cream, Inc | Dryer's Grand Ice Cream, Inc.
Transactions Granted Early Termination—07/27/2001
20012095 | Werner Enterprises | Transplace, Inc | Transplace, Inc.
20012097 | Swift Transportation Co., Inc | Transplace, Inc | Transplace, Inc.
20012098 | J.B. Hunt Transport Services | Transplace, Inc | Transplace, Inc.
20012113 | Cinergy Corp | Duke Energy Corporation | Cadiz Project Company Madison Project Company
20012118 | Duke Energy Corporation | Cinergy Corp | Duke Energy Vermillion, LLC
20012126 | Kmart Corporation | Kmart Corporation | BlueLight.com LLC
20012130 | Land O' Lakes, Inc | Purina Mills, Inc | Purina Mills, Inc.
20012146 | B.N. Bahadur | Jay Alix | Peregrine Incorporated
20012149 | Allied Capital Corporation | SunSource Inc | SunSource Inc.
20012169 | Sun Life Financial Services of Canada Inc | Liberty Mutual Insurance Company | Independent Financial Marketing Group Keyport Life Insurance Company Liberty Securities Corporation LSC Insurance Agency of Arizona, Inc. LSC Insurance Agency of Nevada, Inc. LSC Insurance Agency of New Mexico, Inc.
20012173 | Berkshire Fund V, Limited Partnership | Carter Holdings, Inc | Carter Holdings, Inc.
20012181 | SAP Aktiengesellschaft Systeme, Anwendungen Produckte in der | Commerce One, Inc | Commerce One, Inc.
20012183 | Omnicom Group Inc | Marketing Services Group, Inc | Grizzard Communications Group, Inc.
20012184 | Barry Diller | National Leisure Group, Inc | National Leisure Group, Inc.
20012185 | Amerada Hess Corporation | Triton Energy Limited | Triton Energy Limited
20012187 | Dean Vanech | Dean Vanech | Salmon Energy, LLC
20012188 | Education Management Corporation | Michael C. Markovitz, Ph.D | Argosy Education Group, Inc.
Transactions Granted Early Termination—07/30/2001
20011563 | W. Galen Weston | Unilever N.V | Bestfoods Baking Co., Inc., Thomas Trademark Holding BV
20012106 | Novartis AG | Dr. Reddy's Laboratories Limited | Dr. Reddy's Laboratorires Limited
20012142 | PRIMEDIA Inc | Emap plc | Emap, Inc.
20012179 | Penauille Polyservices, S.A | Deutsche Lufthansa AG | GlobeGround GmbH
Transactions Granted Early Termination—08/01/2001
20012144 | Duke Energy Corporation | Enron Corp | New Albany Power I, L.L.C.
20012150 | Technip | Coflexip, S.A | Coflexip, S.A.
20012176 | XCare.net, Inc | Healthcare.com Corporation | Healthcare.com Corporation
20012186 | Conectiv | Chris D. Galligan, a natural person | Haymoor, LLC
Transactions Granted Early Termination—08/02/2001
20012143 | Barrick Gold Corporation | Homestake Mining Company | Homestake Mining Company
20012170 | Sanmina Corporation | Alcatel | Alcatel USA Sourcing, L.P.
Transactions Granted Early Termination—08/03/2001
20012166 | Florida Rock Industries, Inc | Golder, Thoma, Cressey, Rauner Fund IV, L.P | Bama Crushed Corporation BHY Ready Mix, Inc. Bradley Stone & Sand, Inc. Deklab Stone, Inc. Gove Materials Corporation Mulberry Rock Corporation SRM Aggregates, Inc.
20012167 | Cargill Incorporated | Emmpak Foods, Inc | Emmpak Foods, Inc.
20012192 | Centerpoint Broadband Technologies, Inc | Zaffire, Inc | Zaffire, Inc.
20012193 | G. Drew Conway | Renaissance Worldwide, Inc | Renaissance Worldwide, Inc.
20012196 | CAE Inc | Schreiner Luchtvaart Groep B.V | Schreiner Aviation Training B.V.
20012202 | aaiPharma Inc | AstraZeneca plc | AstraZeneca plc
20012217 | William B. Turner | Synovus Financial Corp | Synovus Financial Corp.

FOR FURTHER INFORMATION CONTACT: Sandra M. Peay or Parcellena P. Fielding, Contact Representatives, Federal Trade Commission, Premerger Notification Office, Bureau of Competition, Room 303, Washington, DC 20580, (202) 326-3100.

By Direction of the Commission.
Donald S. Clark,
Secretary.

[FR Doc. 01-22855 Filed 9-11-01; 8:45 am]

BILLING CODE 6750-01-M